SECURITIES AND EXCHANGE COMMISSION

Submission for OMB Review; Comment Request

Upon Written Request Copies Available From: Securities and Exchange Commission, Office of FOIA Services, 100 F Street NE., Washington, DC 20549-2736.

Extension:

Form F-1, SEC File No. 270-249, OMB Control No. 3235-0258.

Notice is hereby given that, pursuant to the Paperwork Reduction Act of 1995 (44 U.S.C. 3501 et seq.), the Securities and Exchange Commission (“Commission”) has submitted to the Office of Management and Budget (“OMB”) this request for an extension of the previously approved collection of information discussed below.

Form F-1 (17 CFR 239.31) is the form used by foreign private issuers to register the offer and sale of securities under the Securities Act of 1933 (15 U.S.C. 77a et seq.) when no other form is authorized or prescribed. The information collected is intended to ensure that the information required to be filed by the Commission permits verification of compliance with securities law requirements and assures the public availability of such information. Form F-1 takes approximately 1,709 hours per response and is filed by approximately 63 respondents. We estimate that 25% of the 1,709 hours per response (427.25 hours) is prepared by the registrant for a total annual reporting burden of 26,917 hours (427.25 hours per response × 63 responses).

An agency may not conduct or sponsor, and a person is not required to respond to, a collection of information unless it displays a currently valid OMB control number.

The public may view the background documentation for this information collection at the following Web site, www.reginfo.gov . Comments should be directed to: (i) Desk Officer for the Securities and Exchange Commission, Office of Information and Regulatory Affairs, Office of Management and Budget, Room 10102, New Executive Office Building, Washington, DC 20503, or by sending an email to: Shagufta_Ahmed@omb.eop.gov; and (ii) Pamela Dyson, Director/Chief Information Officer, Securities and Exchange Commission, c/o Remi Pavlik-Simon, 100 F Street NE., Washington, DC 20549 or send an email to: PRA_Mailbox@sec.gov. Comments must be submitted to OMB within 30 days of this notice.

Dated: February 24, 2016.
Robert W. Errett,
Deputy Secretary.

[FR Doc. 2016-04440 Filed 2-29-16; 8:45 am]

BILLING CODE 8011-01-P